DEPARTMENT OF COMMERCE

International Trade Administration

[A-201-809]

Certain Cut-to-Length Carbon Steel Plate From Mexico: Notice of Final Court Decision and Amended Final Results of Antidumping Duty Administrative Review

AGENCY: Import Administration, International Trade Administration, Department of Commerce.

ACTION: Notice of Final Court Decision and Amended Final Results of Antidumping Duty Administrative Review.

SUMMARY: On November 12, 2002, the United States Court of International Trade (CIT) affirmed the remand determination of the Department of Commerce (the Department) in the 1997-98 administrative review for Altos Hornos de Mexico, S.A. de C.V. (AHMSA) arising from the antidumping duty order on certain cut-to-length carbon steel plate from Mexico. See Altos Hornos de Mexico, S.A. de C.V. v. United States of America, Bethlehem Steel Corporation and United States Steel Corporation, Consol. Ct. No. 01-00018, Slip Op. 02-136 (CIT November 12, 2002) (the November 12, 2002 Court order). As there is now a final court decision, we are amending the amended final results of the review in this matter. We will instruct the U.S. Customs Service to liquidate entries subject to these amended final results.

EFFECTIVE DATE: February 20, 2003.

FOR FURTHER INFORMATION CONTACT: Thomas Killiam or Michael Heaney, Antidumping/Countervailing Duty Enforcement, Import Administration, International Trade Administration, U.S. Department of Commerce, 14th Street N.W. and Constitution Avenue, N.W.,Washington D.C. 20230; telephone (202) 482-5222 or (202) 482-4475, respectively.

SUPPLEMENTARY INFORMATION:

Background

On August 19, 1993, the Department published the antidumping duty order on steel plate from Mexico (58 FR 44165). On February 18, 2000, the Department published the final results of the 1997-1998 administrative review. See Certain Cut-to-Length Carbon Steel Plate From Mexico: Final Results of Antidumping Duty Administrative Review, 65 FR 8338, February 18, 2000. The Department published three successive sets of amended results, on November 2, 2000 (65 FR 65830), December 12, 2000 (65 FR 77566), and January 24, 2001 (66 FR 7619).

Following the January 24, 2001 amended results, the foreign producer, AHMSA, contested certain aspects of the Department's final and amended final results at the CIT. The Department requested a voluntary remand, and on April 15, 2002, the CIT remanded the amended final results to the Department. On June 28, 2002, the Department issued its remand redetermination. See Redetermination Pursuant to Court Remand Order in Altos Hornos de Mexico, S.A. de C.V. v. United States, et. al., Court No. 01-00018, June 28, 2002. See also Memorandum to the File from T. Killiam, Case Analyst, “Analysis of Programming Revisions in the Final Remand Results of Review of Cut-to-Length Carbon Steel Plate from Mexico A-201-809), June 28, 2002; and Memorandum to Neal Halper, Director, Office of Accounting, from Peter S. Scholl, Senior Accountant, “Final Remand Redetermination - Antidumping Duty Administrative Review of Certain Cut-to-Length Carbon Steel Plate from Mexico,” June 28, 2002. In the remand determination, the Department used historical and inflation-adjusted information previously placed on the record by AHMSA to calculate a revised financial expense rate, and applied this revised rate to AHMSA's historical cost of manufacturing.

On November 12, 2002, the CIT sustained the Department's remand results.

Amendment to Final Results

The time period for appealing the CIT's decision sustaining the Department's remand results has expired and no party has appealed this decision. Therefore, pursuant to section 516 A(c) of the Tariff Act, (19 U.S.C. 1516a(c)), we are amending our final results of review for the period August 1, 1997 through July 1, 1998, to reflect the findings in the remand results.

The revised weighted-average margin for AHMSA is as follows:

Manufacturer/Exporter | Margin (percent)
AHMSA | 0.07 (de minimis)

The Department will issue appraisement instructions directly to Customs to liquidate without regard to antidumping duties all entries of AHMSA's subject merchandise during the POR, as provided in 19 C.F.R. 351.106(c)(2). The above amended rate will not affect AHMSA's cash deposit rates currently in effect, which continue to be based on the margins found to exist in the most recently completed review.

We are issuing and publishing this determination in accordance with section 751(a)(1) of the Tariff Act, (19 U.S.C. 1675(a)(1)).

Dated: February 11, 2003.
Faryar Shirzad,
Assistant Secretary for Import Administration.

[FR Doc. 03-4131 Filed 2-19-03; 8:45 am]

BILLING CODE 3510-DS-S